DEPARTMENT OF ENERGY

Federal Energy Regulatory Commission

[Docket No. RP00-586-000]

Vector Pipeline L.P.; Notice of Proposed Changes in FERC Gas Tariff

October 3, 2000.

Take notice that on September 29, 2000, Vector Pipeline L.P. (Vector), tendered for filing to become part of its FERC Gas Tariff, Original Volume No. 1, the tariff sheets listed in Appendix A to the filing, to become effective November 1, 2000.

Vector states that the purpose of this filing is to propose certain new services and to place into effect its preferred method of dealing with overrun quantities and imbalances. Vector requests any and all waivers of the Commission's regulations that may be required to place the proposed tariff into effect as requested.

Vector states that it is proposing three new services, a park and loan service, a title transfer tracking service, and a management balancing service. Vector states that the proposed interruptible park and loan service in Rate Schedule PALS-1 is intended as a means of dealing with shipper imbalances in preference to the imposition of penalties. Whenever operationally possible, Vector will offer shippers the option of either parking or loaning gas, on an interruptible basis, under Rate Schedule PALS-1. The proposed rate for PALS-1 service is a maximum of $0.2556 per Dth and a minimum rate of $0.00 per Dth. The maximum PALS-1 rate is the same as Vector's maximum interruptible rate for Zone 2 service (i.e., service from Milepost 0 to the terminus of the pipeline at Milepost 333), which is the 100% load factor equivalent of Vector's Zone 2 firm rate under Rate Schedule FT-1. Vector may choose to discount the PALS-1 rate, where market circumstances warrant, on a not unduly discriminatory basis.

Vector states that it also is offering title transfer tracking service in Rate Schedule TTS under which Vector follows the trades of gas supply effected by shippers and others who wish to use the Vector system as a trading mart. Such changes in gas ownership may take place at any point on the Vector system that has been designated by the TTS customer and accepted by Vector. The proposed rate for TTS service is a maximum of $0.01 per Dth and a minimum of $0.00 per Dth, which reflects anticipated operation and maintenance (O&M) costs that Vector will incur in order to render the service. Vector may choose to discount the TTS rate, where market circumstances warrant, on a not unduly discriminatory basis.

Vector states that it is offering a management of balancing agreement service, in Rate Schedule MBA, under which shippers have the opportunity to contract with third parties for imbalance management. The MBA service allows a gas customer, which can be a Vector shipper or an end-user connected to the Vector system, to contract with a third party for balancing, with Vector managing the balancing on behalf of the balancing provider. This service allows the balancing customer to vary its takes of gas on an hourly basis different from the uniform requirement in the tariff while maintaining the overall integrity of the system by adjusting the gas takes of the balancing provider to compensate. For this reason, the balancing provider must be able to provide Vector with gas on a firm basis. Vector will manage the balancing service for the balancing provider. The rate Vector proposes to charge for this administrative service is a maximum of $0.02 per Dth and a minimum of $0.00 per Dth, reflecting anticipated operation and maintenance (O&M) costs that Vector states it will incur in order to render the service. Vector may choose to discount the MBA rate, where market circumstances warrant, on a not unduly discriminatory basis.

With respect to imbalance tolerances, Vector states that it has incorporated the Commission's requirement that imbalances which do not cause system problems should not incur a penalty. Thus, as long as a shipper's imbalance does not contribute—together with the imbalances of all other shippers on the system—to a variance of 5% from the target line pack (i.e., the optimum level needed for system operations on any given day), the shipper incurs no imbalance charge. If, however, these conditions are not present, a shipper—in a noncritical period—could be assessed an imbalance charge of $0.10 per Dth for that portion of shipper's net imbalance that exceeds the greater of 5% or 100 Dth. Where a shipper has created an imbalance and failed to resolve it through available means during an operational flow order (OFO) period, imbalance charges are more severe, starting at $25 per Dth plus a daily index price for imbalances in the 3% to 7% range. Vector states it has provided for the netting and trading of imbalances.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25849 Filed 10-6-00; 8:45 am]

BILLING CODE 6717-01-M